INTERNATIONAL TRADE COMMISSION

[Inv. Nos. 731-TA-344, 391A, 392A, 392C, 393A, 394A, 396, and 399A (Second Review)]

Certain Bearings From China, France, Germany, Italy, Japan, Singapore, and the United Kingdom

AGENCY: United States International Trade Commission.

ACTION: Notice of Commission determinations to conduct full five-year reviews concerning the antidumping duty orders on certain bearings from China, France, Germany, Italy, Japan, Singapore, and the United Kingdom.

SUMMARY: The Commission hereby gives notice that it will proceed with full reviews pursuant to section 751(c)(5) of the Tariff Act of 1930 (19 U.S.C. 1675(c)(5)) to determine whether revocation of the antidumping duty orders on certain bearings from China, France, Germany, Italy, Japan, Singapore, and the United Kingdom would be likely to lead to continuation or recurrence of material injury within a reasonably foreseeable time. A schedule for the reviews will be established and announced at a later date. For further information concerning the conduct of these reviews and rules of general application, consult the Commission's Rules of Practice and Procedure, part 201, subparts A through E (19 CFR part 201), and part 207, subparts A, D, E, and F (19 CFR part 207).

EFFECTIVE DATE: September 7, 2005.

FOR FURTHER INFORMATION CONTACT: Debra Baker (202-205-3180), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for these reviews may be viewed on the Commission's electronic docket (EDIS) at http://edis.usitc.gov.

SUPPLEMENTARY INFORMATION: On September 7, 2005, the Commission determined that it should proceed to full reviews in the subject five-year reviews pursuant to section 751(c)(5) of the Act.¹ The Commission found that both the domestic and respondent interested party group responses to its notice of institution (70 FR 31531, June 1, 2005) were adequate.² A record of the Commissioners' votes, the Commission's statement on adequacy, and any individual Commissioner's statements will be available from the Office of the Secretary and at the Commission's Web site.

¹ Vice Chairman Deanna Tanner Okun and Commissioner Shara L. Aranoff did not participate.

² Commissioner Jennifer A. Hillman found that the respondent interested party group responses with respect to ball bearings from Germany and spherical plain bearings from France were inadequate. Commissioner Daniel R. Pearson found that the respondent interested party group response with respect to spherical plain bearings from France was inadequate.

Authority: These reviews are being conducted under authority of title VII of the Tariff Act of 1930; this notice is published pursuant to § 207.62 of the Commission's rules.

By order of the Commission.
Issued: September 9, 2005.
Marilyn R. Abbott,
Secretary to the Commission.

[FR Doc. 05-18338 Filed 9-14-05; 8:45 am]

BILLING CODE 7020-02-P